DEPARTMENT OF HEALTH AND HUMAN SERVICES

Administration for Children and Families

Office of Community Services

Funding Opportunity Title: Community Services Block Grant—Rural Community Development Activities Program

Announcement Type: Initial.

Funding Opportunity Number: HHS-2005-ACF-OCS-EF-0030.

CFDA Number: 93.570.

Due Date for Applications: June 24, 2005.

Summary

The Administration for Children and Families (ACF), Office of Community Services (OCS), announces that competing applications will be accepted for new grants pursuant to the Secretary's discretionary authority. The Community Services Block Grant (CSBG) Act of 1981; as amended (Section 680(a)(3)(B) of the Community Opportunities, Accountability, and Training and Educational Services Act of 1998), authorizes the Secretary of the U.S. Department of Health and Human Services (HHS) to provide assistance for rural community development activities, which shall include providing grants to multi-state, regional, private, non-profit organizations to enable the organizations to provide training and technical assistance to small, rural communities concerning meeting their community facilities needs.

Awards will be contingent on the outcome of the competition and the availability of funds. This announcement is inviting applications for a 12-month budget period and a 60-month project period. Applications for continuation grants funded under these awards beyond the one-year budget period but within the five-year project period will be entertained in subsequent years on a noncompetitive basis, subject to availability of funds, satisfactory progress of the grantee and a determination that continued funding will be in the best interest of the Government.

I. Funding Opportunity Description

The Community Services Block Grant (CSBG) Act of 1981, as amended (Section 680(a)(3)(B) of the Community Opportunities, Accountability, and Training and Educational Services Act of 1998), authorizes the Secretary of the U.S. Department of Health and Human Services (HHS) to provide assistance for rural community development activities, which shall include providing grants to multi-state, regional, private, non-profit organizations to enable the organizations to provide training and technical assistance to small, rural communities concerning meeting their community facility needs. Pursuant to this announcement, the Office of Community Services (OCS) will award grants to private non-profits to provide training and technical assistance on water and waste water management systems for small, rural low-income communities. The low-income beneficiaries to this program are those who are determined to be living in poverty as determined by the HHS Guidelines on Poverty (See Appendix A).

Program Evaluation

Pursuant to the requirement of Section 680(b) of the COATES Act, OCS will provide funds to an independent third party research organization to evaluate the effectiveness of the programs and services carried out by the grantees funded pursuant to this announcement, individually and as an overall strategy for improving the quality of life and economic well-being of residents in small, rural communities, particularly as they affect low-income residents of those communities and contribute to developing and sustaining healthy rural communities.

Pursuant to that requirement, approximately $200,000 in FY 2005 funds will be made available for developing an evaluation design.

Project Goals

The ultimate goals of the projects to be funded under this program are:

1. To provide training and technical assistance in developing and managing community facilities in rural areas that will help low-income rural communities develop the capacity and expertise to establish and/or maintain needed community facilities, which include: (a) Affordable, adequate and safe water and waste water treatment facilities; (b) increasing the community capacity building skills; and (c) assisting the communities with developing community leadership skills.

2. To improve the coordination of Federal, State and local agencies' funding resources to assist with: (a) Water and waste water management systems; (b) community capacity building; and (c) developing community leadership skills.

3. To provide data and information needed for the evaluation of the projects to demonstrate the effectiveness of these activities and interventions and of the project designs through which they were implemented; and to cooperate with the third-party entity carrying out evaluation of the programs; and

4. To distribute information to low-income rural communities on available Federal assistance to support these activities and contribute to developing and sustaining healthy rural communities.

Program Priority Areas

There is only one program priority area in this announcement.

Definition of Terms

For the purposes of this announcement:

1. Budget Period: The time intervals into which a project period is divided for budgetary and funding purposes.

2. Cash Contributions: The cash outlay including the money contributed to the project or program by the recipient and third parties.

3. Community Economic Development (CED): A process by which a community uses resources to attract capital and increase physical, commercial, and business development and job opportunities for its residents.

4. Distressed Community: An urban neighborhood or rural community of high unemployment and pervasive poverty.

5. Eligible Applicant: A multi-state, regional, private non-profit organization that can provide training and technical assistance to small, rural communities concerning their community facility needs. Faith-based organizations that meet the above requirements are eligible to apply.

6. Empowerment Zones and Enterprise Communities (EZ/EC): Those communities designated as such by the Secretaries of Agriculture or Housing and Urban Development.

7. Faith-based Organizations: Faith-based organizations that are exempt from taxation under 501(c)(3) of the Internal Revenue Code of 1986 by reason of paragraph (3) or (4) of Section 501(c) of such Code and private non-profit corporations or organizations are also eligible to apply for funds under this program announcement.

8. Indian Tribe: An Indian tribe or a private, non-profit corporation or organization.

9. Job Creation: Jobs that were not in existence before the start of the project.

10. Job Placement: Placing a person in an existing vacant job of a business, service, or commercial activity not related to new development or expansion activity.

11. Poverty Income Guidelines: Guidelines published annually by the U.S. Department of Health and Human Services that establish the level of poverty defined as low-income for individuals and their families.

12. Program Income: Gross income earned by the grant recipient that is directly generated by an activity supported with grant funds.

13. Project Period: The total time for which a project is approved for OCS support, including any approved extensions.

14. Rural Community: A community or defined rural area with a population under 10,000, although most activities of the Rural Community Assistance Program are carried out in rural areas with populations of 2,000 or less.

15. Secretary: The Secretary of Health and Human Services, acting through the Director of the Office of Community Services.

16. Self-Sufficiency: A condition where an individual or family neither needs nor is eligible for public assistance.

17. Technical Assistance: A problem-solving event or intervention utilizing the services of an expert. Such services may be provided on-site, by telephone, or by other communications. These services address specific problems and are intended to assist in immediately resolving a given problem or set of problems.

18. Temporary Assistance for Needy Families (TANF): Title I of the Personal Responsibility and Work Opportunity Reconciliation Act of 1996 (Pub. L. 104-193) created the TANF program that transformed welfare into a system that requires work in exchange for time-limited assistance.

19. Third Party: Any individual organization, or business entity that is not the direct recipient of grant funds.

20. Third Party In-kind Contributions: The value of non-cash contributions provided by non-federal third parties in the form of real property, equipment, supplies, and other expendable property, and the value of goods and services directly benefiting and specifically identifiable to the project or programs.

Awards will be contingent on the outcome of the competition and the availability of funds.

Priority Area: Rural Community Development Activities Program

1. Description:

The project description provides the major means by which an application is evaluated and ranked to compete with other applications for available assistance. The project description should be concise, complete, and address the activity for which Federal funds are being requested. Supporting documents should present information clearly and succinctly. Applicants are required to provide information on their organizational structure, staff, related experience, and other relevant information. Awarding offices use this and other information to determine whether the applicant has the capability and resources necessary to carry out the proposed project. It is important, to include this information in the application. However, in the narrative, the applicant must distinguish resources directly related to the proposed project from those that will not be used specifically to support the project for which funds are requested.

The Community Services Block Grant (CSBG) Act of 1981, as amended (Section 680(a)(3)(B) of the Community Opportunities, Accountability, and Training and Educational Services Act of 1998), authorizes the Secretary of the U.S. Department of Health and Human Services (HHS) to provide assistance for rural community development activities, which shall include providing grants to multi-state, regional, private, non-profit organizations to enable the organizations to provide training and technical assistance to small, rural communities concerning meeting their community facility needs. Pursuant to this announcement, the Office of Community Services (OCS) will award grants to multi-state, regional, private, non-profit organizations to provide training and technical assistance to rural low-income communities in the development of community facilities. The low-income community beneficiaries to this program are those who are determined to be living in poverty as determined by the HHS Guidelines on Poverty (See Appendix A).

Project Goals

The ultimate goals of the projects to be funded under this program are:

1. To provide training and technical assistance in developing and managing community facilities in rural areas that will help low-income communities develop the capability and expertise to establish and/or maintain needed community facilities, which may include: (a) Affordable, adequate, and safe water and waste water treatment facilities; (b) increasing the community capacity building skills; and (c) developing leadership skills.

2. To improve the coordination of Federal, State and local agencies' funding resources to assist with: (a) water and waste water management systems; (b) community capacity building; and (c) developing community leadership skills.

3. To provide data and information needed for the evaluation of the projects to demonstrate the effectiveness of these activities and interventions and of the project designs through which they were implemented; and to cooperate with the third-party entity carrying out evaluation of the programs;and

4. To distribute information to low-income rural communities on available Federal assistance to support these activities and contribute to developing and sustaining healthy rural communities.

Attendance of Technical Assistance and Evaluation Workshops/Conferences.

OCS will sponsor at least one national evaluation workshop in Washington, DC or in other locations, if necessary, during the course of the project period. Project Directors will be expected to attend such workshops and should include the expenses of attending as a part of their original budget request.

II. Award Information

Funding Instrument Type: Grant.

Anticipated Total Priority Area Funding: $6,719,000.

Anticipated Number of Awards: 6 to 7.

Ceiling on Amount of Individual Awards: $1,000,000 per budget period.

Floor on Amount of Individual Awards: $719,000 per budget period.

Average Projected Award Amount: $1,000,000 per budget period.

Length of Project Periods: 5 year project period with 12 month budget periods

This announcement invites applications for project periods up to five years. Awards, on a competitive basis, will be for a one-year budget period, although project periods may be for five years. Applications for continuation grants funded under these awards beyond the one-year budget period but within the five-year project period will be entertained in subsequent years on a noncompetitive basis, subject to availability of funds, satisfactory progress of the grantee and a determination that continued funding will be in the best interest of the Government.

An application that exceeds the upper value of the dollar range specified will be considered non-responsive and will not be eligible for funding under this announcement.

III. Eligibility Information

1. Eligible Applicants: Non-profits having a 501(c)(3) status with the IRS, other than institutions of higher education.

Private, non-profit organizations are encouraged to submit with their applications the optional survey located under “Grant Manuals & Forms Related Documents and Forms” titled “Survey for Private, Non-Profit Grant Applicants” at http://www.acf.hhs.gov/programs/ofs/forms.htm.

Additional Information on Eligibility

1. Multi-state, regional, private, non-profit organizations that can provide training and technical assistance to small, rural communities concerning their community facility needs.

2. Faith-based organizations that meet the program requirements.

2. Cost Sharing/Matching: None.

Please refer to Section IV. for any pre-award requirements.

3. Other:

1. Must be multi-state, regional, private, nonprofit organizations that can provide training and technical assistance to small, rural communities concerning their community facility needs.

2. Faith-based organizations that meet the program requirements.

All Applicants must have a Dun & Bradstreet Number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

(The only applicable methods for the rural facilities program are the first and second items. The applicant should disregard the other areas listed).

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be eligible for funding under this announcement.

Any application received after 4:30 p.m. eastern time on the deadline date will not be considered for competition.

No award will be made under this announcement on the basis of an incomplete application.

IV. Application and Submission Information

1. Address to Request Application Package: Veronica Terrell, Administration for Children and Families, Office of Community Services' Operation Center, 1515 Wilson Blvd., Suite 100, Arlington, VA 22209; Phone: 1-800-281-9519; E-mail: OCS@lcgnet.com.

2. Content and Form of Application Submission: Application pages should be numbered sequentially throughout the application package, beginning with a Summary/Abstract of the proposed project as page number one; and each application must include all of the following:

1. Project Summary/Abstract-brief, not to exceed one page on the applicant's letterhead (that will not be counted as part of the Project Narrative/Description) and that includes the following information;

2. Table of Contents;

3. A completed Standard Form 424 which has been signed by an official of the organization applying for the grant who has authority to obligate the organization legally;

4. A completed Budget Information-Non-Construction Programs (SF-424A);

5. A Budget Justification, including narrative budget justification for each object class category;

6. Proof of current non-profit status of applicant;

7. A Project Narrative, limited to 30 pages;

8. Appendices, which should include the following: (a) All the Assurances—Non-Construction; (b) resumes and/or position descriptions; (e) any letters and/or supporting documents from collaborating or partnering agencies in the target communities; (f) single point of contact comments.

List of Attachments

A. Income Poverty Guidelines

B. Application for Federal Assistance (SF 424)

C. Budget Information—Non Construction Programs (SF 424A)

D. Assurances—Non Construction Programs (SF 424B)

E. Certification Regarding Lobbying

F. Disclosure of Lobbying Activities

G. Certification Regarding Environmental Tobacco Smoke

You may submit your application to us in either electronic or paper format. To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov

• Electronic submission is voluntary, but strongly encouraged.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Public Law 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1. Criteria, for instructions on preparing the full project description.

Applicants have the option of omitting from the application copies (not the original) specific salary rates or amounts for individuals specified in the application budget.

3. Submission Dates and Times: Explanation of Due Dates: The closing date for submission of applications is referenced above. Applications received after 4:30 eastern time on the closing date will be classified as late.

Deadline: Mailed applications shall be considered as meeting an announced deadline if they are either received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Receipt acknowledgement for application packages will not be provided to applicants who submit their package via mail, courier services, or by hand delivery. Applicants will receive an electronic acknowledgement for applications that are submitted via Grants.gov.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

What to submit | Required content | Required form or format | When to submit
Table of Contents | See Section IV.2 | Format described in IV.2 | By application due date.
Project Abstract | See Section IV.2 | Format described in V | By application due date.
Project Narrative | See Section IV.2 | Format described in V | By application due date.
SF424 | See Section IV.2 | Format described in V | By application due date.
Assurances and Certifications | See Section IV.2 | Format described in IV.2 | By application due date.
Non-Federal Commitment Letters | See Section V | Format described in V | By application due date.

Additional Forms: Private, nonprofit organizations are encouraged to submit with their applications the survey located under “Grant Related Documents and Forms” titled “Survey for Private, Non-Profit Grant Applicants” at http://www.acf.hhs.gov/programs/ofs/forms.htm.

What to submit | Required content | Required form or format | When to submit
Survey for Private, Non-Profit Grant Applicants | Per required form | May be found on http://www.acf.hhs.gov/programs/ofs/forms.htm | By application due date.

4. Intergovernmental Review:

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

When comments are submitted directly to ACF, they should be addressed to: Department of Health and Human Services, Administration for Children and Families, Division of Discretionary Grants, 370 L'Enfant Promenade, SW., Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions elected to participate in E.O. 12372 can be found on the following URL: http://www.whitehouse.gov/omb/grants/spoc.html.

5. Funding Restrictions: Grant awards will not allow reimbursement of pre-award costs.

An application that is received after the deadline date or exceeds the upper value of the dollar range specified will not be considered non-responsive and will not be eligible for funding under this announcement.

6. Other Submission Requirements: Submission by Mail: An applicant must provide an original application with all attachments, signed by an authorized representative and two copies. The application must be received at the address below by 4:30 p.m. eastern time on or before the closing date. Applications should be mailed to: Administration for Children and Families, Office of Community Services' Operation Center, 1515 Wilson Blvd., Suite 100, Arlington, VA 22209, Attention: Veronica Terrell.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Administration for Children and Families, Office of Community Services' Operation Center, 1515 Wilson Blvd., Suite 100, Arlington, VA 22209, Attention: Veronica Terrell.

Electronic Submission: http://www.Grants.gov. Please see section IV. 2 Content and Form of Application Submission, for guidelines and requirements when submitting applications electronically.

V. Application Review Information

The Paperwork Reduction Act of 1995 (Pub. L. 104-13)

Public reporting burden for this collection of information is estimated to average 10 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria:

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished.

When accomplishments cannot be quantified by activity or function, list them in chronological order to show the schedule of accomplishments and their target dates. If any data is to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application. The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status; and (e) any of the items immediately above for a State or national parent organization and a statement signed by the parent organization that the applicant organization is a local non-profit affiliate.

Dissemination Plan

Provide a plan for distributing reports and other project outputs to colleagues and the public. Applicants must provide a description of the kind, volume and timing of distribution.

Third-Party Agreements

Provide written and signed agreements between grantees and sub-grantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424. Provide a narrative budget justification that describes how the categorical costs are derived. Discuss the necessity, reasonableness, and allocability of the proposed costs.

General Personnel

Description: Costs of employee salaries and wages. Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate. Justification: Provide a breakdown of the amounts and percentages that comprise fringe benefit costs such as health insurance, FICA, retirement insurance, taxes, etc.

Travel

Description: Costs of project-related travel by employees of the applicant organization (does not include costs of consultant travel). Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.) Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category. Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant. Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc. Note: Whenever the applicant intends to delegate part of the project to another agency, the applicant must provide a detailed budget and budget narrative for each delegate agency, by agency title, along with the same supporting information referred to in these instructions.

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs. Justification: Provide computations, a narrative description and a justification for each cost under this category.

Indirect Charges

Description: Total amount of indirect costs. This category should be used only when the applicant currently has an indirect cost rate approved by the Department of Health and Human Services (HHS) or another cognizant Federal agency. Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project. Justification: Describe the nature, source and anticipated use of program income in the budget or refer to the pages in the application which contain this information.

Nonfederal Resources

Description: Amounts of non-Federal resources that will be used to support the project as identified in Block 15 of the SF-424. Justification: The firm commitment of these resources must be documented and submitted with the application so the applicant is given credit in the review process. A detailed budget must be prepared for each funding source. Grantees will be held accountable for any non-federal resources represented in their applications as committed to the project.

Evaluation Criteria

In considering how applicants will carry out the responsibilities addressed under this announcement, competing applications for financial assistance will be reviewed and evaluated against the following criteria:

Approach 30 Points

Element I—Approach 1—Project Implementation—(Maximum: 20 Points)

The Work Plan is both sound and feasible. The project responds to the needs identified in the Analysis of Need. It sets forth realistic quarterly time targets for task completion. Critical issues or potential problems that might impact negatively on the project are defined and the project objectives can be reasonably attained despite such potential problems.

Element II—Approach 2—Public Private Partnerships (Maximum: 10 Points)

The application documents that the applicant will mobilize from public and/or private sources cash and/or in-kind contributions. Applicants documenting that the fair value of such contributions will at least equal the OCS funds requested will receive the maximum number of points for this element. Applications proposing to mobilize contributions that are valued less than the total amount of Federal grant funds requested will receive prorated points in this element.

Staff and Position Data 15 Points

Element III—Staff Skills, Resources and Responsibilities (Sub-Rating 0-15 Points)

The application describes in brief resume form the experience and skills of the Project Director who is not only well qualified, but possesses professional capabilities relevant to successfully implementing the project. If the key staff person has not yet been identified, the application must contain a comprehensive position description indicating the relevance of the responsibilities to be assigned to the Project Director who will be successfully implementing the project. The applicant has adequate facilities and resources (i.e., space and equipment) to successfully carry out the work plan. The assigned responsibilities of the staff are appropriate to the tasks identified for the project and sufficient time of senior staff will be budgeted to assure timely implementation and cost-effective management of the project.

Organizational Profiles 15 Points

Element IV—Organizational Experience of Program Area and Staff Responsibilities (Maximum: 15 Points)

• Documentation provided indicates that previous projects were relevant and effective and provided permanent benefits to the low-income population.

• Organizations that propose providing training and technical assistance have detailed competence in the specific program priority area and as a deliverer with expertise in the fields of training and technical assistance. If applicable, information provided by these applicants also should address related achievements and competence of each cooperating or sponsoring organization.

Results or Benefits Expected 15 Points

Element V—Results or Benefits Expected—Significant and Beneficial Impact (Maximum: 15 Points)

The application contains a full and accurate description of the proposed use of the requested financial assistance. The proposed project will produce permanent and measurable results that will reduce the incidence of poverty in the areas targeted and significantly enhance the health of the communities served and the well-being of their residents. Results are quantifiable in terms of program area expectations, for example, number of water systems or waste water treatment facilities begun, in construction, or completed; measurable improvement in water quality and health of watershed; amount of resources successfully mobilized for facilities improvement; and number of communities provided assistance with community capacity building and development of leadership skills. The OCS grant funds, in combination with private and/or other public resources, are targeted into rural low-income and/or designated empowerment zones and enterprise communities.

Objectives and Need for Assistance 15 Points

Element VI—Analysis of Need (Maximum: 15 Points)

The application must precisely identify the target population(s) and/or communities to be served. The geographic area to be impacted should then be briefly described, citing the percentage of low-income residents and/or communities that will be impacted and providing any other data relevant to the project design. The applicant should describe the needs of the communities and how they plan to address these needs in each relevant area of activity-training and technical assistance on water and waste water management systems, community capacity building and developing leadership.

Budget and Budget Justification 5 Points

Element VII—Budget Appropriateness and Reasonableness (Maximum: 5 Points)

Funds requested are commensurate with the level of effort necessary to accomplish the goals and objectives of the project. The application includes a narrative detailed budget break-down for each of the budget categories in the SF-424A. The applicant presents a reasonable administrative cost. The estimated cost to the government of the project also is reasonable in relation to the anticipated results.

Evaluation 5 Points

Element VIII—Cooperation With Project Evaluation (Maximum: 5 Points)

The applicant should provide a well thought through outline of a plan for collecting, validating and reporting or providing data concerning its activities, services and constituent services to recipients. The applicant must indicate its willingness to cooperate with the organization developing the national evaluation design in identifying performance goals and measures. To be considered for funding, the applicant must provide a signed statement agreeing to cooperate with the organization evaluating the national program by providing the data and information necessary for carrying out the evaluation.

2. Review and Selection Process:

Initial OCS Screening

Each application submitted under this Program Announcement will undergo a pre-review to determine that the application was received by the closing date and submitted in accordance with the instructions in this Announcement.

All applications that meet the published deadline requirements as provided in this Program Announcement will be screened for completeness and conformity with the following requirements.

The following requirements must be met by all Applicants except as noted:

1. The application must contain a signed Standard Form 424 “Application of Federal Assistance” (SF-424), a budget (SF-424A) and signed “Assurances” (SF-424B) completed according to instructions. The SF-424 and the SF-424B must be signed by an official of the organization applying for the grant who has authority to obligate the organization legally. Applicant's must also be aware that the applicant's legal name as required on the SF-424 (Item 5) must match that listed as corresponding to the Employer Identification Number (Item 6).

2. A project narrative must also accompany the standard forms. OCS requests that the narrative portion of the application be limited to 30 letter-size pages, numbered consecutively, and typewritten on one side of the paper only with one-inch margins single spaced and type face no smaller than 12 characters per inch or equivalent.

3. Application should contain documentation of the applicant's non-profit status. Documentation must be provided before date of award.

Consideration of Applications

Applications which pass the initial OCS screening will be reviewed and rated by an independent review panel on the basis of the specific review criteria described in Priority Area I. The review criteria were designed to assess the quality of proposed project, and to determine the likelihood of its success. The review criteria are closely related and are considered as a whole in judging the overall quality of an application. Points are awarded only to applications which are responsive to the review criteria and program elements within the context of this Program Announcement. The results of these reviews will assist the Director and OCS program staff in considering competing applications. Reviewers' scores will weigh heavily in funding decisions, but will not be the only factors considered.

Applications generally will be considered in order of the average scores assigned by reviewers. However, highly ranked applications are not guaranteed funding because other factors are taken into consideration, including, but not limited to, the timely and proper completion of applicant of projects funded with OCS funds granted in the last five (5) years; comments of reviewers and government officials; staff evaluation, and input; the amount and duration of the grant requested, the proposed project's consistency and harmony with OCS goals and policy; geographic distribution of applications; previous program performance of applicants; compliance with grant terms under previous HHS grants, including the actual dedication to program of mobilized resources as set forth in project applications; audit reports; investigative reports; and applicant's progress in resolving any final audit disallowances on previous OCS or other Federal agency grants.

Since ACF will be using non-Federal reviewers in the process, applicants have the option of omitting from the application copies (not the original) specific salary rates or amounts for individuals specified in the application budget and Social Security Numbers, if otherwise required for individuals. The copies may include summary salary information. OCS reserves the right to discuss applications with other Federal or non-Federal funding sources to verify the applicant's performance record and the documents submitted.

VI. Award Administration Information

1. Award Notices:

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements:

Grantees are subject to the requirements in 45 CFR part 74 (non-governmental) or 45 CFR part 92 (governmental).

3. Reporting Requirements:

Programmatic Reports: Semi-Annually.

Financial Reports: Semi-Annually.

Grantees will be required to submit a semi-annual program progress and financial report (SF 269) throughout the project period, as well as a final program and financial report 90 days after the end of the project period. Program progress and financial reports are due 30 days after the reporting period.

Special Terms and Conditions of Awards:

Audit Requirements

Grantees are subject to the audit requirement in 45 CFR part 74 (non-profit organizations) or part 92 (governmental entities) which require audits under OMB Circular A-133.

VII. Agency Contacts

Program Office Contact: Veronica Terrell, Administrative for Children and Families Office of Community Services, Division of Community and Discretionary Programs, 370 L'Enfant Promenade, SW.—5th Floor West, 901 D Street, SW.—5th Floor West, Washington, DC 20447; Phone: 202-401-5295; Fax: 202-205-5008 Email: vterrell@acf.hhs.gov.

Grants Management Office Contact: Barbara Ziegler-Johnson, Grants Management Officer, Administration for Children and Families Office of Grants Management Division of Discretionary Grants, 370 L'Enfant Promenade, SW.—4th Floor West 901 D Street, SW.—4th Floor West, Washington , DC 20447; Phone: 1-800-281-9519; Email: OCS@lcgnet.com.

VIII. Other Information

Notice: Beginning with FY 2006, The Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

The FY 2006 President's budget does not include or propose funding for the Rural Community Development Activities Program. Future funding is based on the availability of Federal funds.

Direct Federal grants, subaward funds, or contracts under this rural Community Development Activities Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

FOR FURTHER INFORMATION CONTACT: Veronica Terrell (202) 401-5295, vterrell@acf.hhs.gov, or Carol Watkins (202) 401-9356, cwatkins@acf.hhs.gov. Web site address for reading and downloading applications: http://www.acf.hhs.gov/programs/ocs—double click on “Funding Opportunities.”

Dated: April 14, 2005.
Josephine B. Robinson,
Director, Office of Community Services.

[FR Doc. 05-8133 Filed 4-22-05; 8:45 am]

BILLING CODE 4184-01-P